DEPARTMENT OF THE TREASURY

Submission for OMB Review; Comment Request

August 15, 2011.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before September 19, 2011 to be assured of consideration.

Alcohol and Tabacco Tax and Trade Bureau (TTB)

OMB Number: 1513-0018.

Type of Review: Revision of a currently approved collection.

Title: Application for Basic Permit under the Federal Alcohol Administration Act.

Form: TTB F 5100.24.

Abstract: TTB 5100.24 will be completed by persons intending to engage in a business involving beverage alcohol operations at a distilled spirits plant, bonded winery, or wholesaling/importing business. The information collected allows TTB to identify the applicant and the location of the business, and to determine whether the applicant qualifies for a permit.

Respondents: Private Sector: Businesses or other for-profits.

Estimated Total Burden Hours: 5,656.

OMB Number: 1513-0019.

Type of Review: Extension without change of a currently approved collection.

Title: Application for Amended Basic Permit under the Federal Alcohol Administration Act.

Forms: TTB F 5100.18.

Abstract: TTB F 5100.18 is completed by permittees who change their operations in a manner that requires a new permit or receive a new notice. The information allows TTB to identify the permittee, the changes to the permit or business, and to determine whether the applicant still qualifies for a basic permit.

Respondents: Private Sector: Businesses or other for-profits.

Estimated Total Burden Hours: 600.

OMB Number: 1513-0023.

Type of Review: Revision of a currently approved collection.

Title: Environmental Information; and Supplemental Information on Water Quality Consideration under 33 U.S.C. 1341(a).

Forms: TTB F 5000.28 and 5000.30.

Abstract: TTB F 5000.29 is used to determine whether an activity will have a significant effect on the environment and to determine if a formal environmental impact statement or an environmental permit is necessary for a proposed operation. TTB F 5000.30 is used to make a determination as to whether a certification or waiver by the applicable State water quality agency is required under section 21 of the Federal Water Pollution Control Act (33 U.S.C. 1341(a)). Manufacturers that discharge a solid or liquid effluent into navigable waters submit this form.

Respondents: Private Sector: Businesses or other for-profits.

Estimated Total Burden Hours: 3,900.

OMB Number: 1513-0054.

Type of Review: Extension without change of a currently approved collection.

Title: Offer in Compromise of liability incurred under the provisions of Title 26 U.S.C. enforced and administered by TTB; Collection Information Statement (CIS) for Individuals; CIS for Businesses.

Forms: TTB F 5600.17, 5600.18, and 5640.1.

Abstract: TTB F 5640.1 is used by persons who wish to compromise criminal and/or civil penalties for violations of the IRC. If accepted, the offer in compromise is a settlement between the government and the party in violation in lieu of legal proceedings or prosecution. If the party is unable to pay the offer in full, TTB F 5600.17 and 5600.18 are use to gather financial information to develop an installment agreement to allow the party to pay without incurring a financial hardship.

Respondents: Private Sector: Businesses or other for-profits; Individuals and households.

Estimated Total Burden Hours: 140.

OMB Number: 1513-0073.

Type of Review: Extension without change of a currently approved collection.

Title: Manufacturers of Nonbeverage Products—Records to Support Claims for Drawback, TTB REC 5530/2.

Abstract: Records required to be maintained by manufacturers of nonbeverage products are used to prevent diversion of drawback spirits to beverage use. The records are necessary to maintain accountability over these spirits. The records make it possible to trace spirits using audit techniques, thus enabling TTB officers to verify the amount of spirits used in nonbeverage products and subsequently claimed as eligible for drawback of tax. The record retention requirement for this information collection is 3 years.

Respondents: Private Sector: Businesses or other for-profits.

Estimated Total Burden Hours: 10,521.

OMB Number: 1513-0075.

Type of Review: Extension without change of a currently approved collection.

Title: Proprietors or Claimants Exporting Liquors, TTB REC 5900/1.

Abstract: Distilled spirits, wine, and beer may be exported from bonded premises without payment of excise taxes, or, they may be exported if their taxes have been paid and the exporters may claim drawback of the taxes paid. The recordkeeping requirement makes it possible to trace movement of distilled spirits, wine, and beer, thus enabling TTB officers to verify the amount of these liquors eligible for exportation without payment of tax or exportation subject to drawback.

Respondents: Private Sector: Businesses or other for-profits.

Estimated Total Burden Hours: 7,200.

Clearance Officer: Gerald Isenberg, Alcohol and Tobacco Tax and Trade Bureau, Room 200 East, 1310 G Street, NW., Washington, DC 20005; (202) 453-2165.

OMB Reviewer: Shagufta Ahmed, Office of Management and Budget, New Executive Office Building, Room 10235, Washington, DC 20503; (202) 395-7873.

Dawn D. Wolfgang,
Treasury PRA Clearance Officer.

[FR Doc. 2011-21044 Filed 8-17-11; 8:45 am]

BILLING CODE 4810-31-P